DEPARTMENT OF HEALTH AND HUMAN SERVICES

Administration for Children and Families

[CFDA NUMBER: 93.568]

Reallotment of Fiscal Year 2018 Funds for the Low Income Home Energy Assistance Program (LIHEAP); Correction

AGENCY: Division of Energy Assistance, Office of Community Services (OCS), Administration for Children and Families (ACF), Department of Health and Human Services (HHS).

ACTION: Notice of Public Comment; correction.

SUMMARY: This Notice corrects a Federal Register Notice of Public Comment published on August 27, 2019 concerning the LIHEAP reallotment for FY 2018. The contact information in the Addressess section needs to be updated.

FOR FURTHER INFORMATION CONTACT: Lauren Christopher, Director, Division of Energy Assistance, Office of Community Services, Administration for Children and Families, Department of Health and Human Services, 330 C Street SW, 5th Floor, Mail Room 5425, Washington, DC 20201. Telephone: (202) 401-4870. Email: lauren.christopher@acf.hhs.gov.

SUPPLEMENTARY INFORMATION:

Correction

This Notice corrects a Federal Register Notice of Public Comment published on August 27, 2019, 84 FR 44899, page 44899-44900. The contact, title, email address, and fax number have been updated at page 44899, third column, lines 31-32, 37, and 39. (The deadline for submitting comments under the Dates section remains unchanged and is still September 26, 2019.) The corrected text is as follows for the Addresses section:

ADDRESSES: Comments may be submitted to the attention of: Lauren Christopher, Director, Division of Energy Assistance, Office of Community Services, Administration for Children and Families, Department of Health and Human Services, 330 C Street SW, 5th Floor; Mail Room 5425, Washington, DC 20201. Alternatively, comments may be faxed to (202) 401-5642 or emailed to: ocs@acf.hhs.gov.

Statutory Authority: 42 U.S.C. 8626.

Elizabeth Leo,
Senior Grants Policy Specialist, Division of Grants Policy, Office of Administration.

[FR Doc. 2019-19310 Filed 9-5-19; 8:45 am]

BILLING CODE 4184-80-P